DEPARTMENT OF COMMERCE

National Oceanic and Atmospheric Administration

[I.D. 072503A]

Marine Mammals; File No. 881-1668

AGENCY: National Marine Fisheries Service (NMFS), National Oceanic and Atmospheric Administration (NOAA), Commerce.

ACTION: Issuance of permit amendment.

SUMMARY: Notice is hereby given that the Alaska SeaLife Center (ASLC), Seward, Alaska 99664 (Principal Investigator: Don Calkins) has been issued a permit amendment to take Steller sea lions (Eumetopias jubatus) for the purposes of scientific research.

ADDRESSES: The permit amendment and related documents are available for review upon written request, by downloading from the internet, or by appointment in the following office(s): Permits, Conservation and Education Division, Office of Protected Resources, NMFS, 1315 East-West Highway, Room 13705, Silver Spring, MD 20910, (301)713-2289, or the Division's Web page at http://www.nmfs.noaa.gov/prot_res/PR1/Permits/pr1permits_review.html.

Alaska Region, NMFS, P.O. Box 21668, Juneau, AK 99802-1668,(907)586-7221.

FOR FURTHER INFORMATION CONTACT: Dr. Tammy Adams or Amy Sloan, (301)713-2289.

SUPPLEMENTARY INFORMATION: On June 27, 2002 , notice was published in the Federal Register (67 FR 43283) that a request for a scientific research permit to take Steller sea lions had been submitted by the above-named organization. The requested permit was issued on November 11, 2002 (67 FR 69724) under the authority of the Marine Mammal Protection Act of 1972, as amended (16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR parts 222-226). However, a decision regarding the proposed transport of juvenile sea lions to the ASLC for temporary maintenance and associated experiments was deferred pending additional environmental analyses. A supplemental environmental assessment on the effects of these activities was prepared, resulting in a Finding of No Significant Impact.

Permit No. 881-1668, issued to the Alaska SeaLife Center, authorizes takes of threatened and endangered Steller sea lions of all ages in Alaska by capture, hot-branding, flipper tagging, collection of blood and tissue samples from, attachment of external scientific instruments, mortality incidental to research, and harassment incidental to these activities and remote monitoring. In addition to these activities, the amended permit authorizes transport of up to 16 juvenile Steller sea lions per year to the ASLC for short-term captivity, health assessments (including anesthesia, blood sampling, blubber biopsy, diagnostic x-ray, endoscopy, bioelectric impedance analysis, deuterated water, and urinalysis), controlled fasting, and adrenocorticotrophic hormone challenge experiments.

Issuance of this permit amendment, as required by the ESA, was based on a finding that such permit (1) was applied for in good faith, (2) will not operate to the disadvantage of the endangered species which is the subject of this permit, and (3) is consistent with the purposes and policies set forth in section 2 of the ESA.

Dated: July 31, 2003.
Stephen L. Leathery,
Chief, Permits, Conservation and Education Division, Office of Protected Resources, National Marine Fisheries Service.

[FR Doc. 03-20287 Filed 8-7-03; 8:45 am]

BILLING CODE 3510-22-S